DEPARTMENT OF THE INTERIOR

Fish and Wildlife Service

50 CFR Part 17

[4500090022]

Endangered and Threatened Wildlife and Plants; Five Species Not Warranted for Listing as Endangered or Threatened Species

AGENCY: Fish and Wildlife Service, Interior.

ACTION: Notice of findings.

SUMMARY: We, the U.S. Fish and Wildlife Service (Service), announce 12-month findings on petitions to list three species as endangered or threatened species under the Endangered Species Act of 1973, as amended (Act) and two additional findings that current candidate species no longer warrant listing. After a thorough review of the best scientific and commercial data available, we find that it is not warranted at this time to list the Ozark chub, purpledisk honeycombhead, red tree vole (North Oregon Coast distinct population segment (DPS)), sand verbena moth, and skiff milkvetch. However, we ask the public to submit to us at any time any new information relevant to the status of any of the species mentioned above or their habitats.

DATES: The findings in this document were made on December 19, 2019.

ADDRESSES: Detailed descriptions of the basis for each of these findings are available on the internet at http://www.regulations.gov under the following docket numbers:

Species | Docket No.
Ozark chub | FWS-R4-ES-2019-0094
Purpledisk honeycombhead | FWS-R4-ES-2019-0095
Red tree vole (North Oregon Coast DPS) | FWS-R1-ES-2019-0096
Sand verbena moth | FWS-R1-ES-2010-0096
Skiff milkvetch | FWS-R6-ES-2019-0097

Supporting information used to prepare these findings is available for public inspection, by appointment, during normal business hours, by contacting the appropriate person, as specified under FOR FURTHER INFORMATION CONTACT. Please submit any new information, materials, comments, or questions concerning these findings to the appropriate person, as specified under FOR FURTHER INFORMATION CONTACT.

FOR FURTHER INFORMATION CONTACT:

Species | Contact Information
Ozark chub | Melvin Tobin, Supervisor, Arkansas Ecological Services Field Office, 501-513-4473.
Purpledisk honeycombhead | Tom McCoy, Field Supervisor, South Carolina Ecological Services Field Office, 843-727-4707, ext. 227.
Red tree vole | Paul Henson, State Supervisor, Oregon Fish and Wildlife Office, 503-231-6179.
Sand verbena moth | Brad Thompson, Acting State Supervisor, Washington Office of Fish and Wildlife, 360-753-9440.
Skiff milkvetch | Ann Timberman, Field Supervisor, Western Colorado Ecological Services Office, 970-628-7181.

If you use a telecommunications device for the deaf (TDD), please call the Federal Relay Service at 800-877-8339.

SUPPLEMENTARY INFORMATION:

Background

Under section 4(b)(3)(B) of the Act (16 U.S.C. 1531 et seq.), we are required to make a finding whether or not a petitioned action is warranted within 12 months after receiving any petition that we have determined contains substantial scientific or commercial information indicating that the petitioned action may be warranted (“12-month finding”). We must make a finding that the petitioned action is: (1) Not warranted; (2) warranted; or (3) warranted but precluded. “Warranted but precluded” means that (a) the petitioned action is warranted, but the immediate proposal of a regulation implementing the petitioned action is precluded by other pending proposals to determine whether species are endangered or threatened species, and (b) expeditious progress is being made to add qualified species to the Lists of Endangered and Threatened Wildlife and Plants (Lists) and to remove from the Lists species for which the protections of the Act are no longer necessary. Section 4(b)(3)(C) of the Act requires that, when we find that a petitioned action is warranted but precluded, we treat the petition as though resubmitted on the date of such finding, that is, requiring that a subsequent finding be made within 12 months of that date. We must publish these 12-month findings in the Federal Register.

Summary of Information Pertaining to the Five Factors

Section 4 of the Act (16 U.S.C. 1533) and the implementing regulations at part 424 of title 50 of the Code of Federal Regulations (50 CFR part 424) set forth procedures for adding species to, removing species from, or reclassifying species on the Lists. The Act defines “endangered species” as any species that is in danger of extinction throughout all or a significant portion of its range (16 U.S.C. 1532(6)), and “threatened species” as any species that is likely to become an endangered species within the foreseeable future throughout all or a significant portion of its range (16 U.S.C. 1532(20)). Under section 4(a)(1) of the Act, a species may be determined to be an endangered species or a threatened species because of any of the following five factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

In considering whether a species may meet the definition of an endangered species or a threatened species because of any of the five factors, we must look beyond the mere exposure of the species to the stressor to determine whether the species responds to the stressor in a way that causes actual impacts to the species. If there is exposure to a stressor, but no response, or only a positive response, that stressor does not cause a species to meet the definition of an endangered species or a threatened species. If there is exposure and the species responds negatively, we determine whether that stressor drives or contributes to the risk of extinction of the species such that the species warrants listing as an endangered or threatened species. The mere identification of stressors that could affect a species negatively is not sufficient to compel a finding that listing is or remains warranted. For a species to be listed or remain listed, we require evidence that these stressors are operative threats to the species or its habitat, either singly or in combination, to the point that the species meets the definition of an endangered or a threatened species under the Act.

In conducting our evaluation of the five factors provided in section 4(a)(1) of the Act to determine whether the Ozark chub (Erimystax harryi), purpledisk honeycombhead (Balduina atropurpurea), North Oregon Coast DPS of red tree vole (Arborimus longicaudus), sand verbena moth (Copablepharon fuscum), and skiff milkvetch (Astragalus microcymbus) meet the definition of “endangered species” or “threatened species,” we considered and thoroughly evaluated the best scientific and commercial data available regarding the past, present, and future stressors and threats. We reviewed the petitions, information available in our files, and other available published and unpublished information. These evaluations may include information from recognized experts; Federal, State, and tribal governments; academic institutions; foreign governments; private entities; and other members of the public.

The species assessments for the Ozark chub, purpledisk honeycombhead, North Oregon Coast DPS of red tree vole, sand verbena moth, and skiff milkvetch contain more-detailed biological information, a thorough analysis of the listing factors, and an explanation of why we determined that these species do not meet the definition of an endangered species or a threatened species. This supporting information can be found on the internet at http://www.regulations.gov under the appropriate docket number (see ADDRESSES, above). The following are informational summaries for each of the findings in this document.

Ozark Chub

Previous Federal Actions

On April 20, 2010, we received a petition from the Center for Biological Diversity (CBD), Alabama Rivers Alliance, Clinch Coalition, Dogwood Alliance, Gulf Restoration Network, Tennessee Forests Council, West Virginia Highlands Conservancy, Tierra Curry, and Noah Greenwald (referred to below as the CBD petition) to list 404 aquatic, riparian, and wetland species, including the Ozark chub, from the southeastern United States as endangered or threatened species under the Act. On September 27, 2011, we published in the Federal Register (76 FR 59836) a 90-day finding in which we announced that the petition contained substantial information indicating listing may be warranted for the Ozark chub. This document constitutes our 12-month finding on the April 20, 2010, petition to list the Ozark chub under the Act.

Summary of Finding

The Ozark chub is a small, slender, freshwater fish in the minnow family, Cyprinidae, found in the White River basin in Arkansas and Missouri and the upper St. Francis River Basin in Missouri. Adult Ozark chubs most frequently occur in runs and riffles approximately 45-60 centimeters deep over gravel, habitat directly below riffles, or shallow pools with noticeable current. Young individuals occupy backwater and shoreline or side channel habitats with low velocity, such as the shallow marginal areas of pool headwaters. Spawning occurs in April and May, with eggs deposited in clean gravel substrate. The average life span for females is about 3.5 years, whereas most males survive a little more than 2 years. Ozark chubs feed primarily on or near the stream bottom, consuming detritus composed of diatomaceous algae and bacteria in the winter, adding drifting algae and plant matter to their diet in the other seasons. Invertebrate insects, likely ingested incidentally, make up a much smaller portion (less than 10 percent) of the diet.

We have carefully assessed the best scientific and commercial data available regarding the past, present, and future threats to the Ozark chub, and we evaluated all relevant factors under the five listing factors, including any regulatory mechanisms and conservation measures addressing these stressors. The primary stressors affecting the Ozark chub's biological status include large dams and their impoundments, and water quality impairment, including sedimentation. Altered natural flow in the impoundments formed by dams and in the tailwaters below dams has made habitat unsuitable in several stream and river segments historically occupied by Ozark chubs, and has fragmented populations. Water quality is impaired in some stream reaches within each watershed currently occupied by the chub. Predominant sources of water quality impairment are agriculture, forestry, mining, and urban development.

While threats have acted on the species to reduce available habitat, the Ozark chub persists in 22 of 23 historically occupied watersheds, and the breadth of the species' range has not changed. A majority of the range is rural, and large increases in urbanization are not anticipated, nor are any additional large high-head dams likely to be constructed. Many of the water-quality problems affecting the species currently are the legacy of past land-use practices that no longer or rarely occur. Currently 3, 14, and 5 of the occupied watersheds contain populations in high, moderate, and low condition, respectively. Based on current trends in population growth and land development, no extirpations are predicted. In addition, State-designated special use waters and Federal lands managed by the U.S. Forest Service and National Park Service—including 135 miles of the Buffalo River, which harbors a high-condition population—will continue to protect large areas of the species' habitat.

Therefore, we find that listing the Ozark chub as an endangered species or threatened species under the Act is not warranted. A detailed discussion of the basis for this finding can be found in the Ozark chub species assessment and other supporting documents (see ADDRESSES, above).

Purpledisk Honeycombhead

Previous Federal Actions

On April 20, 2010, we received the CBD petition to list 404 aquatic, riparian, and wetland species, including purpledisk honeycombhead, from the southeastern United States as endangered or threatened species under the Act. On September 27, 2011, we published in the Federal Register (76 FR 59836) a 90-day finding in which we announced that the petition contained substantial information indicating listing may be warranted for purpledisk honeycombhead. This document constitutes our 12-month finding on the April 20, 2010, petition to list purpledisk honeycombhead under the Act.

Summary of Finding

Purpledisk honeycombhead is a perennial herb found in pine savanna and flatwood ecosystems of Florida, Georgia, South Carolina, North Carolina, and (historically) Alabama. It is distinguished from other species in the genus by its dark purple disk flowers. Purpledisk honeycombhead occurs in a variety of habitat types where moisture and light are conducive for growth throughout the pine savanna and flatwood ecosystem. Large-scale or small-scale disturbance caused primarily by fire has shaped and characterized the wet pine savannas, seepage slopes, and pitcherplant bogs of the southeastern Coastal Plain where purpledisk honeycombhead occurs.

Of the 79 purpledisk honeycombhead populations, 38 remain extant across the historical range. Currently, purpledisk honeycombhead is extant in Bladen County in North Carolina; Richland County in South Carolina; Ben Hill, Charlton, Coffee, Colquitt, Cook, Evans, Irwin, Jeff Davis, Jenkins, Liberty, Tattnall, Long, Toombs, Turner, and Worth Counties in Georgia; and Clay, Duval, and Nassau Counties in Florida.

We have carefully assessed the best scientific and commercial data available regarding the past, present, and future threats to purpledisk honeycombhead, and we evaluated all relevant factors under the five listing factors, including any regulatory mechanisms and conservation measures addressing these stressors. The primary stressors affecting purpledisk honeycombhead's biological status are habitat-based: Habitat loss due to development or land conversion (e.g., agriculture, pine plantations, etc.) and habitat degradation due to fire suppression. Across purpledisk honeycombhead's range, the transition zone between longleaf pine uplands and aquatic wetlands has been heavily affected by habitat destruction and modification. Large tracts of land, containing both uplands and aquatic wetlands, are needed to protect these transitions zones. Further, purpledisk honeycombhead and its habitat requires frequent fire prescription to maintain the open conditions in these mesic transition zones to abate woody encroachment and facilitate nutrient releases. Other potential factors influencing the viability of purpledisk honeycombhead include nonnative, invasive species (i.e., feral hogs) and climate change. However, land management (prescribed fire, mowing, and mechanical treatment of woody vegetation) occurring on protected lands and some private lands is beneficial to purpledisk honeycombhead by maintaining suitable habitat conditions, and most of the high- to moderate-resiliency populations occur on protected lands with active management.

Impacts from habitat destruction and modification and fire suppression do not appear to be affecting high- or moderate-resiliency purpledisk honeycombhead populations. In the foreseeable future, purpledisk honeycombhead is predicted to have a core of high- and moderate-resiliency populations within three representative units on lands (including protected lands) on which management provides suitable habitat for the species. In addition, management on protected lands is predicted to continue providing a core of relatively secure populations such that the species will not become in danger of extinction in the foreseeable future.

Therefore, we find that listing purpledisk honeycombhead as an endangered species or threatened species under the Act is not warranted. A detailed discussion of the basis for this finding can be found in the purpledisk honeycombhead species assessment and other supporting documents (see ADDRESSES, above).

Red Tree Vole (North Oregon Coast DPS)

Previous Federal Actions

On June 18, 2007 we received a petition from Center for Biological Diversity, Oregon Chapter of the Sierra Club, Audubon Society of Portland, Cascadia Wildlands Project, and OregonWild to list the north Oregon coast Distinct Population Segment (DPS) of the red tree vole as endangered or threatened under the Act. On October 28, 2008, we published a 90-day finding in the Federal Register (73 FR 63919) concluding that the petition presented substantial information indicating that listing the north Oregon coast DPS of the red tree vole may be warranted. On October 13, 2011, we published in the Federal Register (76 FR 63720) a 12-month finding in which we stated that listing the north Oregon coast population of the red tree vole as a DPS was warranted primarily due to habitat loss. However, listing was precluded at that time by higher priority actions, and the DPS of the red tree vole was added to the candidate species lists. From 2012 through 2016, we addressed the status of the north Oregon coast DPS of the red tree vole annually in our candidate notice of review, with the determination that listing was warranted but precluded (see 77 FR 69994, November 21, 2012; 78 FR 70104, November 22, 2013; 79 FR 72450, December 5, 2014; 80 FR 80584, December 24, 2015; 81 FR 87246, December 2, 2016).

Summary of Finding

Red tree voles are small, mouse-sized, arboreal rodents that live in conifer forests. They spend almost all of their time in the tree canopy; if they do come to the ground, it is typically only to move quickly between trees. The north Oregon coast population of the red tree vole is found in the conifer forests of the following counties in Oregon: Clatsop, Columbia, Tillamook, Washington, Yamhill, Polk, Lincoln, Benton, and Lane. Their principal food is conifer needles, predominantly Douglas-fir (Pseudotsuga menziesii) but also western hemlock (Tsuga heterophylla); they are one of the few animals to persist on this diet. The needs of individual red tree voles are met in conifer forest stands with: (1) Connected tree canopies to facilitate foraging and dispersal, and to minimize time on the ground that may increase predation risk; (2) available structures to support nests; and (3) structural complexity and taller trees that likely reduce visibility and vulnerability to predators. These features are more common in older forests (greater than 80 years old).

We have carefully assessed the best scientific and commercial data regarding the past, present, and future threats to the north Oregon coast population of the red tree vole, and we evaluated all relevant factors under the five listing factors, including any regulatory mechanisms and conservation measures addressing these stressors. Since the development of our 2016 CNOR, tree vole habitat was modeled across the DPS, and we were able to use that spatial data to more robustly assess existing habitat conditions, population resiliency, and associated future trends in a way that had been previously unattainable. Specifically, the spatial habitat layer allowed us to consider distribution of habitat and model clusters of occupied habitat to serve as proxies for red tree vole subpopulations or management units on which to do an analysis of resiliency, redundancy, and representation for the status assessment. This modeling indicated that 26 percent of the DPS area was suitable habitat, as compared to the 11 percent that the model we used in our previous status reviews had predicted. By projecting habitat trends in future scenarios, we developed a more informed picture of the future than had been available for the 2016 CNOR.

The primary stressors affecting the north Oregon coast population of the red tree vole include habitat loss and fragmentation due to timber harvest and wildfire. Despite impacts from these stressors and some observed decline in abundance, the red tree vole in this area has maintained resilient populations over time, primarily in the two large habitat clusters under Federal management, the Nestucca Block and South Block. Although we predict some continued impacts from these stressors in the future, we anticipate these two large habitat clusters will continue to maintain resiliency and provide redundancy across a large portion of the DPS. Furthermore, it is reasonable to expect the Tillamook State Forest and Kilchis River clusters to increase and expand their areas based on habitat succession in the adjoining landscape. A portion of the State Forest land adjoining these two clusters will likely mature into red tree vole habitat (80 years old or older) over the coming years, thereby increasing the footprint of these two clusters, and even connecting them. With respect to future representation of the red tree vole, the two large habitat clusters will continue to maintain both the Sitka spruce (Picea sitchensis) and western hemlock (Tsuga heterophylla) vegetation zones even in light of climate change.

For these reasons, we find that these stressors do not, alone or in combination, rise to a level that causes the north Oregon coast population of the red tree vole to meet the definition of an endangered species or a threatened species. Therefore, we find that listing the north Oregon coast DPS of the red tree vole as an endangered species or threatened species is not warranted. A detailed discussion of the basis for this finding can be found in the species assessment forms for the north Oregon coast population of the red tree vole and in other supporting documents (see ADDRESSES, above).

Sand Verbena Moth

Previous Federal Actions

On February 17, 2010, we received a petition, dated February 4, 2010, from WildEarth Guardians and the Xerces Society for Invertebrate Conservation requesting that the sand verbena moth be listed as endangered or threatened throughout its entire range. On February 17, 2011, we published in the Federal Register (76 FR 9309) a 90-day finding that the petition presented substantial information indicating that listing the sand verbena moth may be warranted. This document constitutes our 12-month finding on the February 4, 2010, petition to list the sand verbena moth under the Act.

Summary of Finding

The sand verbena moth (Copablepharon fuscum) belongs to the second-largest family of the owlet moths (Noctuidae). It is a nocturnal moth that has a short flight period from mid-May to early July. Over the last 20 years, it has been detected at 11 sites: 5 in Canada and 6 in the State of Washington. Our status analysis indicated that six of these sites may currently support populations and are located in low-lying nearshore areas around the Salish Sea; three of these are in Canada on Vancouver Island, and three are in Washington in areas around the Puget Sound. These six sites (and 10 of the 11 total detection sites) occur in the rain shadows of the Coast Mountains on Vancouver Island or the Olympic Mountains in Washington. We do not have enough information to determine if the remaining five sites currently support populations of sand verbena moth.

Like all species of Copablepharon, the sand verbena moth occurs in light sandy soils, and most are restricted to active dunes. However, the sand verbena moth is unique in the genus in that it completes its entire life cycle on and around the yellow sand verbena plant (Abronia latifolia). The moth has an obligate mutualistic relationship with yellow sand verbena (i.e., the moth feeds on the plant during immature stages and provides pollination services in its adult phase). To the best of our understanding, the ecological needs of the sand verbena moth include the following features: Flowering patches of yellow sand verbena with total leaf cover greater than 400 to 500 square meters (0.04 to 0.05 hectares, or 0.10 to 0.12 acres), greater than 25 percent leaf cover of total area, and high flower production from May through July; loose, well-drained, sandy soil away from the tidal inundation zone; and climate associations for yellow sand verbena that support the sand verbena moth, such as 30-year normal precipitation of less than 1,950 millimeters (77 inches) and 30-year normal temperature greater than 7.47 degrees Celsius (45 degrees Fahrenheit).

We have carefully assessed the best scientific and commercial data available regarding the past, present, and future threats to the sand verbena moth, and we evaluated all relevant factors under the five listing factors, including any regulatory mechanisms and conservation measures addressing stressors to the species. The primary stressors affecting the sand verbena moth's biological status include the effects of current and future habitat loss, modification, and fragmentation (Factor A) from erosion, inundation, recreation, development, and invasive species. Habitat appears to be exposed to stressors at all sites. Based on the available data, we cannot determine whether there is a declining or increasing population trend at the sites that may currently support populations, or whether the range of the species has contracted or expanded. Although there is no information on the average or maximum dispersal distance of the sand verbena moth, the species may possess the potential for long-distance dispersal capacity, and therefore may be able to colonize patches of yellow sand verbena that are separated by great distances.

Projections show that sea-level rise and storms may lead to an increase in inundation events, potentially affecting the low-lying sites where the species has been detected. While these projections may appear concerning, there is much uncertainty with regard to the response of the sand verbena moth over time to changes in habitat, including inundation events. The beach dune system that supports yellow sand verbena is naturally dynamic with regular erosion and accretion, and it remains unknown whether that dynamic quality will allow the system to adapt and integrate future local disturbance events due to the effects of climate change. For example, future local disturbances could cause the loss of sand verbena moth and its habitat at detection sites, or they could instead lead to a slow shift in the species' distribution over time or the creation of new habitat due to accretion. The best scientific and commercial data available appear to point towards adaptation and integration because in the years since we received the petition to list the species in 2010, additional sites with positive detections of the moth have been discovered. In addition, although the species does not appear to be abundant, the sand verbena moth's distribution across a relatively large area (for a narrow endemic) makes it possible for the species to maintain viability in the midst of local disturbance events.

Therefore, we find that listing the sand verbena moth as an endangered species or threatened species under the Act is not warranted. A detailed discussion of the basis for this finding can be found in the sand verbena moth species assessment and other supporting documents (see ADDRESSES, above).

Skiff Milkvetch

Previous Federal Actions

On July 30, 2007, we received a petition dated July 24, 2007, from Forest Guardians (now WildEarth Guardians) requesting that 206 species that occur in our Mountain Prairie Region be listed as either endangered or threatened under the Act, including skiff milkvetch. On August 18, 2009, we published a partial 90-day finding in the Federal Register (74 FR 41649) concluding that the petition presented substantial information indicating that listing the skiff milkvetch may be warranted. On December 15, 2010, we published a 12-month finding in the Federal Register (75 FR 78514) in which we stated that listing skiff milkvetch as endangered or threatened was warranted primarily due to threats from off-road vehicle use and drought. However, listing was precluded at that time by higher-priority actions, and the species was added to the candidate species list. From 2011 through 2016, we addressed the status of skiff milkvetch annually in our candidate notice of review, with the determination that listing was warranted but precluded (see 76 FR 66370, October 26, 2011; 77 FR 69994, November 21, 2012; 78 FR 70104, November 22, 2013; 79 FR 72450, December 5, 2014; 80 FR 80584, December 24, 2015; 81 FR 87246, December 2, 2016).

Summary of Finding

Skiff milkvetch is a narrow endemic perennial plant known to occur only in Gunnison and Saguache Counties in Colorado. The species occurs primarily on land administered by the Bureau of Land Management (BLM), but also is found on small amounts of private land in the sagebrush steppe ecosystem. Skiff milkvetch habitat occupies approximately 310 acres (125 hectares). The majority of skiff milkvetch individuals are found along the South Beaver Creek drainage, containing approximately 93 percent of the species' known range; approximately 7 percent is found along the Cebolla Creek drainage. The South Beaver Creek subpopulations are located within an area designated as the South Beaver Creek Area of Critical Environmental Concern (ACEC) that is managed by the BLM.

Skiff milkvetch plants emerge in early spring and usually begin to flower from mid- to late May, into October. Skiff milkvetch is known to reproduce via mast seeding events (e.g., the production of many seeds by a plant every 2 or more years in regional synchrony with other plants of the same species), which are related to environmental conditions such as precipitation. The majority of individuals live 2 to 3 years; however, some individuals can exhibit whole plant dormancy, allowing them to live beyond 20 years. Annual population monitoring for skiff milkvetch on BLM-managed lands since 1995 indicates that skiff milkvetch is stable in overall population size over the long term. Despite statistically significant short-term population declines that have been documented during periods of drought, the species has been known to increase in abundance after periods of increased precipitation.

We have carefully assessed the best scientific and commercial data available regarding the past, present, and future threats to skiff milkvetch (including re-evaluating stressors considered in previous Federal decisions and CNORs using updated data and analysis), and we evaluated all relevant factors under the five listing factors, including any regulatory mechanisms and conservation measures addressing these stressors. The primary stressors affecting skiff milkvetch's biological status include periodic drought and climate change. Other stressors were only found to be having effects on individuals or local areas, or their impacts were not as great as previously thought. We found that the species' current viability is characterized by persistence on the landscape as a narrow endemic species with a stable population size over the long term, a lack of stressors other than drought and climate change, and protections in place on BLM lands. These protections cover approximately 80 percent of the species' range, and include the South Beaver Creek ACEC, which was designated to protect skiff milkvetch, and designation of a State natural area. Seasonal dormancy may also provide protection from environmental change, as evidenced by recovery of individuals with above-ground growth after recent population declines. Given the levels of resiliency currently present in each analysis unit, the stability of the population over the long term, protections in place, and the life-history characteristics of the species, we believe skiff milkvetch currently has sufficient ability to withstand stochastic and catastrophic events and adapt to changes. Looking into the foreseeable future, we anticipate that, overall, the persistence of the species within the large Beaver Creek analysis unit combined with the ability to withstand drought through seasonal dormancy provide the species with sufficient levels of resiliency to future stochastic events through 2050. Despite the projected loss of some smaller subpopulations, we anticipate the species will still have multiple subpopulations across its narrow range, such that it will still have limited but sufficient ability to withstand catastrophic events and to adapt to changing conditions.

Therefore, we find that listing the skiff milkvetch as an endangered species or threatened species under the Act is not warranted. A detailed discussion of the basis for this finding can be found in the skiff milkvetch species assessment and other supporting documents (see ADDRESSES, above).

New Information

We request that you submit any new information concerning the taxonomy of, biology of, ecology of, status of, or stressors to the Ozark chub, purpledisk honeycombhead, North Oregon Coast DPS of red tree vole, sand verbena moth, and skiff milkvetch to the appropriate person, as specified under FOR FURTHER INFORMATION CONTACT, whenever it becomes available. New information will help us monitor these species and make appropriate decisions about their conservation and status. We encourage local agencies and stakeholders to continue cooperative monitoring and conservation efforts.

References Cited

Lists of the references cited in the petition findings are available on the internet at http://www.regulations.gov in the dockets provided above in ADDRESSES and upon request from the appropriate person, as specified under FOR FURTHER INFORMATION CONTACT.

Authors

The primary authors of this document are the staff members of the Species Assessment Team, Ecological Services Program.

Authority

The authority for this action is section 4 of the Endangered Species Act of 1973, as amended (16 U.S.C. 1531 et seq.).

Dated: December 10, 2019
Margaret E. Everson,
Principal Deputy Director, U.S. Fish and Wildlife Service, Exercising the Authority of the Director, U.S. Fish and Wildlife Service.

[FR Doc. 2019-27334 Filed 12-18-19; 8:45 am]

BILLING CODE 4333-15-P